DEPARTMENT OF THE INTERIOR

National Park Service

National Register of Historic Places; Notification of Pending Nominations and Related Actions

Nominations for the following properties being considered for listing or related actions in the National Register were received by the National Park Service before August 18, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 17, 2007.

J. Paul Loether,
Chief, National Register of Historic Places/National Historic Landmarks Program.

ARIZONA

Yavapai County

Peeples Valley School, 18205 U.S. 89, Peeples Valley, 07000991.

ARKANSAS

Garland County

Buckville Cemetery, Buckville Rd., Avant, 07000994.

Little River County

Mills Cemetery, Cty Rd. 40, approx. ⅛ mi. W of AR 71N, Wilton, 07000992.

Pulaski County

Schaer, Fred and Lucy Alexander, House, 13219 AR 70, Galloway, 07000993.

CALIFORNIA

Alameda County

Alameda Veterans' Memorial Building, 2203 Central Ave., Alameda, 07000995.

Los Angeles County

Royal Laundry Complex, 443 S. Raymond Ave., Pasadena, 07000996.

Mendocino County

Spotswood House, 11820 West Rd., Potter Valley, 07000997.

COLORADO

Jackson County

Lake Agnes Cabin, 2.5 mi. from CO 14, near Cameron Pass, Gould, 07000998.

Larimer County

Flattop Mountain Trail, (Historic Park Landscapes in National and State Parks MPS) Rocky Mountain Park, Estes Park, 07000999.

GEORGIA

Clarke County

West Cloverhurst Avenue Historic District, W. Cloverhurst Ave. vet. Springdale St. and S. Milledge Ave., Athens, 07001000.

DeKalb County

Klondike Historic District, Klondike and S. Goddard Rds., Klondike, 07001001.

Sumter County

Third District A & M School—Georgia Southwestern College Historic District, 800 Wheatley St., Americus, 07001002.

IOWA

Mahaska County

Edmundson Park Historic District, Jct. of 11th Ave. W and Edmundson Dr., Oskaloosa, 07001005.

Story County

Lincoln Township Mausoleum, Cty Rd. E18, N end of Pearl St., Zearing, 07001004.

LOUISIANA

Morehouse Parish

Walnut Grove, 9069 Oak Ridge Rd., Mer Rouge, 07001007.

Orleans Parish

Union Bethel A.M.E. Church, 2321 Thalia, New Orleans, 07001003.

Richland Parish

St. David's Episcopal Church, 834 Louisa St., Rayville, 07001006.

MASSACHUSETTS

Essex County

Haverhill Board of Trade Building, 16-18 and 38-42 Walnut St., Haverhill, 07001008.

MICHIGAN

Oakland County

Scripps, William Edmund and Nina A. Downey, Estate, 1840 Scripps Rd., Lake Orion, 07001009.

Wexford County

Cadillac Public Library, 127 Beech St., Cadillac, 07001020.

NEVADA

Washoe County

Bank of Sparks, 948 Victorian Ave., Sparks, 07001013.

NEW YORK

Cayuga County

Auburn Button Works and Logan Silk Mills, 9-11 Logan St., Auburn, 07001014.

Herkimer County

Yale—Cady Octagon House and Yalke Lock Factory Site, 7550 N. Main St., Newport, 07001019.

Seneca County

Cobblestone Farmhouse at 1027 Stone Church Rd., (Cobblestone Architecture of New York State MPS) 1027 Stone Church Rd., Junius, 07001017.

Cobblestone Farmhouse at 1111 Stone Church Road, (Cobblestone Architecture of New York State MPS) 1111 Stone Church Rd., Junius, 07001018.

St. Lawrence County

Wanakena Presbyterian Church, 32 Second St., Wanakena, 07001015.

Suffolk County

Smith—Taylor Cabin, Taylor's Island, Shelter Island, 07001016.

NORTH CAROLINA

Chowan County

Edenton Historic District (Boundary Increase II), Roughly bounded by Filberts Creek, W. Hicks St., Park Ave., the RR right of way, and the original Edenton Historic District, Edenton, 07001010.

Johnston County

Smithfield Masonic Lodge, 115 N. Second St., Smithfield, 07001012.

Mecklenburg County

Siloam School, W side of Mallard Highlands Dr., Approx. 0.25 mi. S from jct. of John Adams Rd., Charlotte, 07001011.

SOUTH CAROLINA

Richland County

Forest Hills Historic District, Bounded by Gervais St., Manning St., Forest Dr., and Glenwood Rd., Columbia, 07001024.

Price, Raymond, House, 3004 Forest Dr., Columbia, 07001022.

Spartanburg County

Converse Heights Historic District, Roughly parts of Clifton, Connecticut, Glendalyn, Hale, Maple, Mills, NOrwood, Otis, Palmetto, Plume, Poplar, Rutledge, Spartanburg, 07001021.

TEXAS

Harris County

Sabine Street Bridge over Buffalo Bayou, (Historic Bridges of Texas MPS) Sabine St. at Buffalo Bayou, Houston, 07001023.

VERMONT

Lamoille County

Waterville Village Historic District, VT 109, Oakes Rd., Church St., Griffin Rd., Fox Hill Rd., Beals Hill Rd., Lapland Rd., Waterville, 07001026.

Windham County

Bridge 19, (Metal Truss, Masonry, and Concrete Bridges in Vermont MPS) Grassy Brook Rd., Brookline, 07001025.

[FR Doc. E7-17382 Filed 8-30-07; 8:45 am]

BILLING CODE 4312-51-P